DEPARTMENT OF THE INTERIOR

National Park Service

[NPS-WASO-NRNHL-13310; PPWOCRADI0, PCU00RP14.R50000]

National Register of Historic Places; Notification of Pending Nominations and Related Actions

Nominations for the following properties being considered for listing or related actions in the National Register were received by the National Park Service before June 8, 2013. Pursuant to § 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by July 17, 2013. Before including your address, phone number, email address, or other personal identifying information in your comment, you should be aware that your entire comment—including your personal identifying information—may be made publicly available at any time. While you can ask us in your comment to withhold your personal identifying information from public review, we cannot guarantee that we will be able to do so.

Dated: June 13, 2013.
J. Paul Loether,
Chief, National Register of Historic Places/National Historic Landmarks Program.

ARIZONA

Maricopa County

Tempe Double Butte Cemetery (Pioneer Section), 2505 W. Broadway Rd., Tempe, 13000508

CALIFORNIA

Los Angeles County

Boyle Hotel—Cummings Block, 101-105 N. Boyle Ave., Los Angeles, 13000509

Case Study House No. 1, (Case Study House Program MPS) 10152 Toluca Lake Ave., Los Angeles, 13000512

Case Study House No. 22, (Case Study House Program MPS) 1635 Woods Dr., Los Angeles, 13000519

Case Study House No. 10, (Case Study House Program MPS) 711 S. San Rafael Ave., Los Angeles, 13000514

Case Study House No. 16, (Case Study House Program MPS) 1811 Bel Air Rd., Los Angeles, 13000515

Case Study House No. 18, (Case Study House Program MPS) 199 Chautauqua Blvd., Los Angeles, 13000516

Case Study House No. 20, (Case Study House Program MPS) 2275 N. Santa Rosa Ave., Los Angeles, 13000517

Case Study House No. 21, (Case Study House Program MPS) 9038 Wonderland Park Ave., Los Angeles, 13000518

Case Study House No. 9, (Case Study House Program MPS) 205 Chautauqua Blvd., Los Angeles, 13000513

Community Clubhouse, 1200 N. Vista St., West Hollywood, 13000510

Orange County

Fender's Radio Service, 1-7 S. Harbor Blvd., Fullerton, 13000511

San Diego County

Case Study House No. 23A, (Case Study House Program MPS) 2342 Rue de Anne, La Jolla, 13000520

Case Study House No. 23C, (Case Study House Program MPS) 2339 Rue de Anne, La Jolla, 13000521

Ventura County

Case Study House No. 28, (Case Study House Program MPS) 91 Inverness Rd., Thousand Oaks, 13000522

COLORADO

Costilla County

Capilla de San Isidro, 21801 Cty. Rd. KS, Los Fuertes, 13000523

Garfield County

Holland—Thompson Property, 1605 CO 133, Carbondale, 13000524

CONNECTICUT

Fairfield County

Williams House, 5 Williams Rd., New Fairfield, 13000525

Hartford County

Sisson—South Whitney Historic District, Roughly bounded by West Blvd., S. Whitney St., Farmington & Sisson Aves., Hartford, 13000526

Swift, M. and Sons Company Historic District, 10 & 60 Love Ln., Hartford, 13000527

Whitfield Cowles House, 118 Spoonville Rd., East Granby, 13000528

GEORGIA

Banks County

Brooks Family Farm, 584 Silver Shoals Rd., Lula, 13000529

Clarke County

Cobb, T.R.R., House, 175 Hill St., Athens, 13000530

Coweta County

Ray, Mary, Memorial School, 771 Raymond Shedden Ave., Raymond, 13000531

Monroe County

Forsyth Railroad Depots and Baggage Room, E. Adams St., Forsyth, 13000532

MASSACHUSETTS

Middlesex County

Wheeler—Harrington House, 249 Harrington Ave., Concord, 13000534

Worcester County

Woodlawn Cemetery, 2 Woodlawn St., Clinton, 13000535

MISSOURI

Clinton County

Stoutimore, David L. and Sallie Ann, House, 501 S. Birch Ave., Plattsburg, 13000536

St. Louis Independent City

Thurman Station, (Auto-Related Resources of St. Louis, Missouri MPS), 2232 Thurman Ave., St. Louis, 13000537

PENNSYLVANIA

Lebanon County

Lebanon Veterans Administration Hospital Historic District, (United States Second Generation Veterans Hospitals MPS), 1700 S. Lincoln Ave., South Lebanon, 13000539

Westmoreland County

Aluminum Research Laboratories, Freeport Rd., New Kensington, 98000413

VIRGINIA

Colonial Heights Independent City

Chesterfield Highlands Historic District, Roughly bounded by the Boulevard, E. Westover, Lafayette, Pickwick, Danville & Lee Aves., Colonial Heights, 13000540

WISCONSIN

Eau Claire County

Borton, Einar and Alice, House, 1819 Lyndale Ave., Eau Claire, 13000541

WYOMING

Fremont County

High Rise Village, Address Restricted, Dubois, 13000542

In the interest of preservation a request to shorten the comment period to three days has been made for the following resources:

MAINE

Hancock County

U.S. Naval Radio Station—Apartment Building and Power House, (Acadia National Park MPS), Atterbury Cir., Winter Harbor, 13000533

OHIO

Stark County

Hoover Company Historic District, 101 E. Maple St., North Canton, 13000538

A request to move has been made for the following resource:

CONNECTICUT

Fairfield County

Lyon, Thomas, House, W. Putnam Ave. and Byram Rd., Greenwich, 77001390

A request for removal has been made for the following resource:

SOUTH CAROLINA

Greenville County

Williams-Earle House, 319 Grove Rd., Greenville, 82003864

[FR Doc. 2013-15788 Filed 7-1-13; 8:45 am]

BILLING CODE 4312-51-P